DEPARTMENT OF HEALTH AND HUMAN SERVICES

National Institutes of Health

Naitonal Heart, Lung, and Blood Institute

Pursuant to section 10(d) of the Federal Advisory Committee Act, as amended (5 U.S.C. Appendix 2), notice is hereby given of the following meeting.

The meeting will be closed to the public in accordance with the provisions set forth in sections 552b(c)(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Heart, Lung, and Blood Institute Special Emphasis Panel, Maintenance of NHLBI Biological Specimen Repository (NHLBI-HB-05-06).

Date: July 29, 2004.

Time: 8:30 a.m. to 4 p.m.

Agenda: To review and evaluate contract proposals.

Place: St. Gregory Hotel, 2033 M Street, NW., Washington, DC 20036.

Contact Person: Irina Gordienko, Scientific Review Administrator, Division of Extramural Activities, National Heart, Lung, and Blood Institute, National Institutes of Health, 6701 Rockledge Drive, Room 7180, MSC 7924, Bethesda, MD 20892, 301-435-0270.

(Catalogue of Federal Domestic Assistance Program Nos. 93.233, National Center for Sleep Disorders Research, 93.837, Heart and Vascular Diseases Research; 93.838, Lung Diseases Research; 93.839, Blood Diseases and Resources Research, National Institutes of Health, HHS)

Dated: June 23, 2004.
LaVerne Y Stringfield,
Director, Office of Federal Advisory Committee Policy.

[FR Doc. 04-14959 Filed 6-30-04; 8:45 am]

BILLING CODE 4140-01-M